NATIONAL CRIME PREVENTION AND PRIVACY COMPACT COUNCIL

National Crime Prevention and Privacy Compact; Approval of Amended Florida Proposal

AGENCY: National Crime Prevention and Privacy Compact Council.

ACTION: Notice of approval of amended Florida proposal.

SUMMARY: Pursuant to title 42, United States Code, section 14616, Article VI(e), and title 28, Code of Federal Regulations (CFR), chapter IX, the Compact Council, established by the National Crime Prevention and Privacy Compact, approved Florida's amended proposal to access the Interstate Identification Index (III) system on a delayed fingerprint submission basis when conducting criminal history record checks in connection with the temporary placement of children during exigent circumstances. The previously approved Florida proposal, published in Federal Register (FR) Notices at 66 FR 28004, dated May 21, 2001, provided for fingerprint submissions to the FBI within five working days of conducting III name-based checks. The approved amended proposal expands the “five working days” time frame to “15 calendar days.”

In approving Florida's amended proposal, the Compact Council also considered information presented by States that were considering implementation of the previously approved proposal but were experiencing an inability to obtain and submit fingerprints within the then “five working days” time frame. Justifications for expanding the time frame included: Social service agencies' lack of automated systems to capture and forward fingerprints; remote geographic hindrances; and existing service contracts containing longer time frames for the capture of noncriminal justice fingerprints.

Those State and federal agencies previously authorized access to the III pursuant to 28 CFR 901.3, wishing to take advantage of the extended time frame, must submit new written applications to the FBI's Compact Officer. Other State and federal agencies may request similar III access by submitting written applications to the FBI's Compact Officer, agreeing to comply with requirements listed at 28 CFR 901.3. Such applications must explain why the submission of fingerprints contemporaneously with search requests is not feasible and also justify the length of the requested delay in the submission of such fingerprints.

Applications may be mailed to the FBI Criminal Justice Information Services Division, Attn: FBI Compact Officer, 1000 Custer Hollow Road, Clarksburg, WV 26306.

Dated: July 15, 2003.
Wilbur Rehmann,
Chairman, Compact Council.

[FR Doc. 03-20218 Filed 8-7-03; 8:45 am]

BILLING CODE 4410-02-P